DEPARTMENT OF COMMERCE

National Oceanic and Atmospheric Administration

National Integrated Drought Information System (NIDIS), NIDIS Executive Council Meeting

AGENCY: Climate Program Office (CPO), Office of Oceanic and Atmospheric Research (OAR), National Oceanic and Atmospheric Administration (NOAA), Department of Commerce (DOC).

ACTION: Notice of open meeting.

SUMMARY: The National Integrated Drought Information System (NIDIS) Program Office will hold an organizational meeting of the NIDIS Executive Council on October 24, 2017.

DATES: The meeting will be held Tuesday, October 24, 2017 from 9:00 a.m. EST to 4:00 p.m. EST. These times and the agenda topics described below are subject to change.

ADDRESSES: The meeting will be held at the National Association of Counties, 660 North Capitol St. NW., Washington, DC 20001.

FOR FURTHER INFORMATION CONTACT: Veva Deheza, NIDIS Executive Director, David Skaggs Research Center, Room GD102, 325 Broadway, Boulder CO 80305. Email: Veva.Deheza@noaa.gov; or visit the NIDIS Web site at www.drought.gov.

SUPPLEMENTARY INFORMATION:

Status: This meeting will be open to public participation. Individuals interested in attending should register at https://cpaess.ucar.edu/meetings/2017/fall-2017-nidis-executive-council-meeting. Please refer to this Web page for the most up-to-date meeting times and agenda. Seating at the meeting will be available on a first-come, first-served basis.

Special Accommodations: This meeting is physically accessible to people with disabilities. Requests for special accommodations may be directed no later than 12:00 p.m. on October 18, 2017, to Elizabeth Ossowski, Program Coordinator, David Skaggs Research Center, Room GD102, 325 Broadway, Boulder CO 80305; Email: Elizabeth.Ossowski@noaa.gov.

Matters To Be Considered: The meeting will include the following topics: (1) NIDIS implementation updates and 2017—2018 priorities, (2) Executive Council member updates and 2017—2018 priorities, (3) Federal coordination around drought early warning, (4) Sub-seasonal to seasonal prediction, (5) Private sector and non-governmental partner engagement, and (6) open discussion on advancing the goals of the NIDIS Public Law and Reauthorization.

The National Integrated Drought Information System (NIDIS) was established by Public Law 109-430 on December 20, 2006, and reauthorized by Public Law 113-86 on March 6, 2014, with a mandate to provide an effective drought early warning system for the United States; coordinate, and integrate as practicable, Federal research in support of a drought early warning system; and build upon existing forecasting and assessment programs and partnerships. See 15 U.S.C. 313d. The Public Law also calls for consultation with “relevant Federal, regional, State, tribal, and local government agencies, research institutions, and the private sector” in the development of NIDIS. 15 U.S.C. 313d(c). The NIDIS Executive Council provides the NIDIS Program Office with an opportunity to engage in individual consultation with senior resource officials from NIDIS's Federal partners, as well as leaders from state and local government, academia, nongovernmental organizations, and the private sector.

Dated: September 28, 2017.
David Holst,
Acting Chief Financial Officer/CAO, Office of Oceanic and Atmospheric Research, National Oceanic and Atmospheric Administration.

[FR Doc. 2017-21577 Filed 10-23-17; 11:15 am]

BILLING CODE 3510-KD-P